DEPARTMENT OF HEALTH AND HUMAN SERVICES

Administration for Children and Families

Proposed Information Collection Activity; Comment Request

Proposed Projects

Title: Child and Family Services Plan, Annual Progresss and Services Report, and the CFS-101, Parts I and II.

OMB No. 0980-0047.

Description: Under title IV-B, subparts 1 and 2, of the Social Security Act, States and Indian Tribes are to submit a five-year Child and Family Services Plan (CFSP) or an Annual Progresss and Services Report (APSR), and an annual budget request and estimated expenditure report (CFS-101). The CFS-101 is submitted annually with the CFSP or the APSR to apply for appropriated funds for the next fiscal year. The CFSP also includes the required State plans under section 106 of the Child Abuse Prevention and Treatment Act (CAPTA) and section 477 of title IV-E, the Chafee Foster Care Independence Program (CFCIP), of the Social Security Act (the Act).

Congress has now appropriated funds for payments to States to implement the Educational and Training Vouchers program (ETV) under section 477(a)(6) and 477(i) of the Act. The ETV program is integrated into the overall purpose and framework of the Chafee program; however, the program has a separate budget authorization and appropriation and has a Catalog of Federal Domestic Assistance (CFDA) number of 93.599. If a State does not apply for funds for the ETV program for a fiscal year by July 31 of that year, the funds will be reallocatd to other States on the basis of their relative need for funds as requested.

The CFSP and the APSR are being renewed and the CFS-101 is being updated to include the request for ETV funds and to either request or release funds for reallocation.

Respondents: 275 (50 States, the District of Columbia, Puerto Rico, and approximately 223 possible Tribal entities).

Annual Burden Estimates
Instrument | Number of respondents | Number of responses per respondent | Average burden hours per response | Total burden hours
CFSP | 275 | 1 | 240 | 66,000/5 = 13,200
APSR | 275 | 1 | 180 | 49,500
CFS-101 | 275 | 1 | 5 | 1,375

Estimated Total Annual Burden Hours: 64,075.

In compliance with the requirements of Section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. E-mail address: grjohnson@acf.hhs.gov. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: May 16, 2005.
Robert Sargis,
Reports Clearance Officer.

[FR Doc. 05-10124 Filed 5-19-05; 8:45 am]

BILLING CODE 4184-01-M